DEPARTMENT OF THE INTERIOR

National Park Service

National Register of Historic Places; Notification of Pending Nominations and Related Actions

Nominations for the following properties being considered for listing or related actions in the National Register were received by the National Park Service before January 12, 2008. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by [Insert date].

Dated: February 14, 2008.
J. Paul Loether,
Chief, National Register of Historic Places/National Historic Landmarks Program.

LOUISIANA

Tangipahoa Parish

Randal House, 301 E. Michigan Ave., Hammond, 08000029.

Wascom House, 303 E. Michigan Ave., Hammond, 08000030.

MISSOURI

St. Louis Independent City

Immaculate Conception Church and Rectory, 312 Lafayette Ave., St. Louis (Independent City), 08000031.

Locust Street Automotive District (Boundary Increase), (Auto-Related Resources of St. Louis, Missouri MPS) 3133-3207 & 3150-3202 Locust St., St. Louis (Independent City), 08000032.

NEVADA

Douglas County

Gardnerville Elementary School, (School Buildings in Nevada MPS) 1290 Toler Ave., Gardnerville, 08000033.

Minden Elementary School, (School Buildings in Nevada MPS) 1638 Mono Ave., Minden, 08000034.

NEW YORK

Broome County

Bennett, Abel, Tract Historic District, Bounded by Riverside Dr., Seminary & St. John Aves., & Beethoven St., Binghamton, 08000035.

Marlborough Building, 81 Clinton St., Binghamton, 08000036.

Delaware County

New Kingston Historic District, Co. Rd. 6, New Kingston, 08000037.

Genesee County

Marion Steam Shovel, Gulf Rd., LeRoy, 08000038.

Steuben County

Rowe House, 11763 Rowe Rd., Wayland, 08000039.

Wyoming County

First Universalist Church of Portageville, E. Koy Rd. at NY 19A, Portageville, 08000040.

OREGON

Klamath County

Rim Drive Historic District, PO Box 7, Crater Lake, 08000041.

SOUTH DAKOTA

Day County

Karpen, Anton and Mary Agnes, House, 818 1st St. W., Webster, 08000042.

Williams, John and Kittie, House, 1009 Main St., Webster, 08000043.

Douglas County

Delmont State Bank, 104 W. Main St., Delmont, 08000044.

Grant County

Friewald, Herman, Barn, 48603 148th St., Big Stone City, 08000045.

Gold, James A. and Ida Bell, House, 202 2nd Ave., Big Stone City, 08000046.

Johnson, Emil and Hannah, House, 117 Diggs Ave., Milbank, 08000047.

Koch, George and Mary, Farm, 14849 474th Ave., Twin Brooks, 08000048.

Nelson, Ole, Barn, 14674 454th Ave., Summit, 08000049.

Hamlin County

Hoffelt Drug Store, 212 Main St., Estelline, 08000050.

Marshall County

Britton Clinic and Hospital, NE., corner of Main & 7th Sts., Britton, 08000051.

Glendenning, William T. and Rebecca, House, 204 9th Ave., Britton, 08000052.

McCook County

Kuhle, Henry, House, 321 E. Washington, Salem, 08000053.

Pennington County

Madison, Pap, Cabin, Bounded by W. Main St., St. Joseph St. & West Blvd., Rapid City, 08000054.

Perkins County

Sittner Farm, (German-Russian Folk Architecture TR) RR T18N R15E S5&6, Meadow, 085000055.

Union County

Star School District 61, (Schools in South Dakota MPS) 47446 305th St., Alcester, 08000056.

UTAH

Cache County

Barrett, William & Elizabeth, Farmstead, 20 S. 100 West, Mendon, 08000057.

Forster Hotel, 176 N. 100 West, Mendon, 08000058.

Mendon Station, 95 N. Main St., Mendon, 08000059.

Muir House, 145 S. Main St., Mendon, 08000060.

Whitney, James F. & MaryJane, House, 195 W. 100 North, Mendon, 08000061.

Grand County

Apache Motel, 166 S. 400 East, Moab, 08000062.

VIRGINIA

Arlington County

Arlington Heights Historic District, (Garden Apartments, Apartment Houses and Apartment Complexes in Arlington County, Virginia MPS) Bounded by Arlington Blvd., S. Fillmore St., S. Walter Reed Dr., Columbia Pk., & S. Glebe Rd., Arlington, 08000063.

Monroe Courts Historic District, (Historic Residential Suburbs in the United States, 1830-1960 MPS) 1041-1067 N. Nelson and 1036-1062 & 1033-1055 N. Monroe Sts., Arlington, 08000064.

Virginia Heights Historic District, (Historic Residential Suburbs in the United States, 1830-1960 MPS) Bounded by 10th Pl. S., S. Frederick St. & S. George Mason Dr., Arlington, 08000065.

Charlottesville Independent City

Jefferson, Martha, Historic District, Includes parts of Lexington, Locust & Grove Aves., & E. High, Maple, Sycamore, Poplar & Hazel Sts., Charlottesville (Independent City), 08000066.

Chesterfield County

Beach Station, 11410 & 11400 Beach Rd., Chesterfield, 08000067.

Culpeper County

Auburn, 17736 Auburn Rd., Brandy Station, 08000068.

Fauquier County

Catlett Historic District, Prospect Ave., & parts of Gaskins Ln., Tenerife, Elk Run, Old Catlett, Catlett, Old Dumfries & Catlett School Rds., Catlett, 08000069.

Hume Historic District, Hume & Leeds Manor Rds., Hume, 08000070.

Henrico County

Redesdale, 8603 River Rd., Richmond, 08000071.

Henry County

Fieldale Historic District, Roughly bounded by 10th St., VA 682, Co. Rd. 609 & Chestnut St., Fieldale, 08000072.

Lynchburg Independent City

Presbyterian Orphans Home, 150 Linden Ave., Lynchburg (Independent City), 08000073.

Montgomery County

Blacksburg Motor Company, Inc., 400 S. Main St., Blacksburg, 08000074.

Newport News Independent City

Causey's Mill, 11700 Warwick Rd., Newport News (Independent City), 08000078.

Richmond Independent City

Fairmont Historic District, Roughly bounded by 24th, Y, 20th, T, R, Q & P Sts., Fairfield & Carrington Aves., & Mechanicsville Tpk., Richmond (Independent City), 08000075.

Southern Stove Works, Manchester, 516-520 Dinwiddie Ave., Richmond (Independent City), 08000076.

Shenandoah County

Wierman, Benjamin, House, 4049 Flat Rock Rd., Quickburg, 08000077.

Virginia Beach Independent City

Hermitage, The, 4200 Hermitage, Virginia Beach (Independent City), 08000079.

WISCONSIN

Jackson County

Warren & Quachita Valley Railroad Steam Locomotive #1, 123 Hixton Rd., Black River Falls, 08000080.

[FR Doc. 08-353 Filed 1-29-08; 8:45 am]

BILLING CODE 4312-51-M